DEPARTMENT OF TRANSPORTATION

National Highway Traffic Safety Administration (NHTSA)

[Docket No. NHTSA-2012-0046]

Proposed Information Collection Submitted to the Office of Management and Budget (OMB); Request for Comments

ACTION: Notice and request for comment.

SUMMARY: In compliance with the Paperwork Reduction Act of 1995 (44 U.S.C. 3501 et seq.), this notice announces that the Information Collection Request (ICR) abstracted below is being submitted to the Office of Management and Budget (OMB) for review. The ICR describes the nature of the information collection and its expected burden. A Federal Register notice with a 60-day comment period soliciting comments on the following information collection was published on April 30, 2012 (77 FR 25533).

DATES: Send comments on or before October 12, 2012.

ADDRESSES: Send comments to the Office of Information and Regulatory Affairs, Office of Management and Budget, 725 17th Street NW., Washington, DC 20503, Attention: NHTSA Desk Officer.

Comments are invited on the following:

i. Whether the proposed collection of information is necessary for the proper performance of the functions of the Department, including whether the information will have practical utility;

ii. The accuracy of the Department's estimate of the burden of the proposed information collection;

iii. Ways to enhance the quality, utility and clarity of the information to be collected; and

iv. Ways to minimize the burden of the collection of information on respondents, including the use of automated collection techniques or other forms of information technology.

FOR FURTHER INFORMATION CONTACT: Gayle Dalrymple (NVS-123), U.S. Department of Transportation, National Highway Traffic Safety Administration, 1200 New Jersey Avenue SE, Washington, DC 20590. Telephone (202) 366-5559. Email address: gayle.dalrymple@dot.gov.

For access to the docket to read background documents, go to http://www.regulations.gov or the street address listed above. Follow the online instructions for accessing the dockets.

SUPPLEMENTARY INFORMATION: Title: Recruitment of human subjects for observational experiments regarding keyless ignition controls, gear selection controls and audible warnings.

OMB Control Number: Not assigned.

Type of Request: New Information Collection.

Abstract: Pursuant to 49 U.S.C. Section 30111(a), the National Highway Traffic Safety Administration (NHTSA) (by delegation from the Secretary of Transportation) is directed to prescribe Federal motor vehicle safety standards (FMVSSs). Human factors observational experiments are proposed to support the current agency regulatory efforts that contemplate revising FMVSS No. 114 (Docket No. NHTSA-2011-0174 RIN 2127-AK88).

The first experiment will examine factors contributing to driver errors in the use of keyless ignition and gear selection controls using a driving simulator (simulator experiment), and the second experiment will evaluate the lack of effectiveness in current audible warnings designed to prevent rollaways related to leaving propulsion systems operative when the driver leaves the vehicle (rollaway warning experiment). The simulator experiment will be conducted in a laboratory setting and participants will be recruited through email. The rollaway warning experiment will be conducted in a public parking lot using face-to-face recruitment of participants.

Before these experiments are conducted, information about the participants will be collected in order to balance the participants between younger and older age groups, genders, and previous driving experience with keyless ignition. The Massachusetts Institute of Technology Age Lab (Age Lab), under contract with the Volpe National Transportation Systems Center (Volpe Center), which is an element of the U.S. Department of Transportation (U.S. DOT), Research and Innovative Technology Administration (RITA), would collect the participant information and conduct this research under an Inter-Agency Agreement (IAA) between Volpe Center and NHTSA.

Affected Public: Participants for the simulator experiment will be selected from a list of individuals in the Boston area who have indicated to the Age Lab that they would like to participate in these types of experiments. Participants for the rollaway warning experiment will be drawn from passers-by.

All participants, regardless of which experiment they participate in, will be asked the same recruiting questions.

Number of Respondents: 375 respondents, including 135 for the simulator experiment and 240 for the rollaway experiment.

Number of Responses: One response per respondent for a total of 375 responses.

Total Annual Burden Hours: 18.75 hours. This estimate is based on three minutes per respondent to consider and respond to the 9 to 11 recruitment questions (375 participants × 0.05 hours (i.e., 3 minutes)).

Frequency of Collection: One time.

On April 30, 2012, NHTSA published a notice announcing the proposed collection of information and providing a 60-day comment period (77 FR 25533). The agency received one comment from the Alliance of Automobile Manufacturers (Alliance). The Alliance offered detailed comments on the collection of information and the associated experiments. An extensive discussion of the Alliance comments and the changes NHTSA has made to the information collection and ICR package as a result can be found in the supporting statement that will be placed in the docket for this notice.

Christopher J. Bonanti,
Associate Administrator for Rulemaking.

[FR Doc. 2012-22477 Filed 9-11-12; 8:45 am]

BILLING CODE 4910-59-P